ENVIRONMENTAL PROTECTION AGENCY

[FRL-9298-6]

Science Advisory Board Staff Office; Notification of a Public Teleconferences of the Science Advisory Board Panel for Review of Hydraulic Fracturing Study Plan

AGENCY: Environmental Protection Agency (EPA).

ACTION: Notice.

SUMMARY: The Environmental Protection Agency (EPA or Agency) Science Advisory Board (SAB) Staff Office announces two public teleconferences of the SAB Panel to discuss its draft report of the review of EPA's Draft Hydraulic Fracturing Study Plan.

DATES: Two public teleconference calls will be held on Thursday, May 19, 2011 from 1 p.m. to 5 p.m. and on Wednesday, May 25, 2011 from 1 p.m. to 5 p.m. (Eastern Time).

ADDRESSES: The public teleconferences will be conducted by telephone only.

FOR FURTHER INFORMATION CONTACT: Any member of the public wishing further information regarding this Notice and these public teleconferences may contact Mr. Edward Hanlon, Designated Federal Officer (DFO), SAB Staff Office, by telephone/voice mail at (202) 564-2134; by fax at (202) 565-2098 or via e-mail at hanlon.edward@epa.gov. General information concerning the EPA Science Advisory Board can be found at the EPA SAB Web site at http://www.epa.gov/sab. Any inquiry regarding EPA's Draft Hydraulic Fracturing Study Plan should be directed to Ms. Susan Burden, EPA Office of Research and Development (ORD), at Burden.Susan@epa.gov or (202) 564-6308. Media inquiries regarding EPA's Draft Hydraulic Fracturing Study Plan should be directed to Ms. Amy Dewey, EPA Office of Public Affairs (OPA), at Dewey.Amy@epa.gov or (202) 564-7816.

SUPPLEMENTARY INFORMATION:

Background: The SAB was established pursuant to 42 U.S.C. 4365 to provide independent scientific and technical advice to the Administrator on the technical basis for Agency positions and regulations. The SAB is a Federal Advisory Committee chartered under the Federal Advisory Committee Act (FACA), 5 U.S.C., App. 2. Pursuant to FACA and EPA policy, notice is hereby given that the SAB Panel will hold two public teleconferences to provide an independent review of EPA's Draft Hydraulic Fracturing Study Plan.

Hydraulic fracturing generates vertical and horizontal fractures in underground geologic formations to facilitate extraction of gas (or oil) from the subsurface. The general process involves drilling a vertical well, in many cases extending the well bore horizontally into the formation, removing water, injecting hydraulic fracturing fluids and then extracting the natural gas along with separation and management of fluids. To respond to concerns voiced by the public and meet a Congressional request, the EPA Office of Research and Development (ORD) initiated a study on the potential impacts of hydraulic fracturing on drinking water resources. At a public face-to-face meeting on April 7-8, 2010, the SAB Environmental Engineering Committee (EEC) augmented with other SAB members evaluated and commented on ORD's proposed scope of study and key research questions regarding the potential public health and drinking water resource issues that may be associated with hydraulic fracturing [Federal Register Notice dated March 18, 2010 (75 FR 13125)]. On June 24, 2010 the SAB provided the EPA Administrator with an advisory report entitled Advisory on EPA's Research Scoping Document Related to Hydraulic Fracturing, EPA-SAB-10-009.

ORD's next step was to develop a draft Study Plan for its hydraulic fracturing research. The SAB formed a new Hydraulic Fracturing Study Plan Review Panel which met on March 7-8, 2011 to discuss and evaluate ORD's Draft Hydraulic Fracturing Study Plan. [Federal Register Notice dated February 9, 2011 (76 FR 7199-7180)]. Materials from the March 2011 meeting are posted on the SAB Web site at http://yosemite.epa.gov/sab/sabproduct.nsf/MeetingCal/153AC7DF8D2626F98525781000648075?OpenDocument. The purpose of the May 19, 2011 and May 25, 2011 teleconference calls is for the SAB Panel to discuss its draft review report that was developed based on consensus views reached at the March 7-8, 2011 meeting.

Availability of Meeting Materials: The agenda and materials in support of these teleconference calls will be placed on the EPA SAB Web site at http://www.epa.gov/sab in advance of the teleconference calls.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB to consider or if it relates to the clarity or accuracy of the technical information. Members of the public wishing to provide comment should contact the Designated Federal Officer for the relevant advisory committee directly.

Oral Statements: Members of the public have opportunity to provide oral statements during the May 19, 2011 teleconference call. In general, individuals requesting an oral presentation during the May 19, 2011 public teleconference will be limited to three minutes per speaker. Interested parties should contact Mr. Edward Hanlon, DFO, in writing (preferably via e-mail), at the contact information noted above, by May 12, 2011 to be placed on the list of public speakers for the teleconference.

Written Statements: Written statements should be received in the SAB Staff Office by May 12, 2011 so that the information may be made available to the Panel for their consideration. Written statements should be supplied to the DFO in electronic format via e-mail (acceptable file formats: Adobe Acrobat PDF, WordPerfect, MS Word, MS PowerPoint, or Rich Text files in IBM-PC/Windows 98/2000/XP format). It is the SAB Staff Office general policy to post written comments on the Web page prior to the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Edward Hanlon at the phone number or e-mail address noted above, preferably at least ten days prior to the meeting, to give EPA as much time as possible to process your request.

Dated: April 15, 2011.
Anthony F. Maciorowski,
Deputy Director, EPA Science Advisory Board Staff Office.

[FR Doc. 2011-9686 Filed 4-20-11; 8:45 am]

BILLING CODE 6560-50-P